ENVIRONMENTAL PROTECTION AGENCY

[FRL-7129-4]

Request for Proposals for an Improved Atmospheric Nitrogen Deposition Data Set for the Chesapeake Bay Program

The Environmental Protection Agency (EPA) is issuing a request for proposals (RFP) for organizations interested in providing the Chesapeake Bay Program (CBP) with improved estimates of daily wet nitrogen deposition loadings to the Chesapeake Bay and its watershed. Proposals must be postmarked no later than March 1, 2002. Funding will be provided to an organization under the authority of the Clean Water Act, Section 117.

The RFP is available at the following Web site: http://www.gov/r3chespk/. You may also request a copy by calling Julie Thomas at 410-267-9848 or by e-mail at thomas.julie@epa.gov. Proposals must be postmarked no later than March 1, 2002. Any late, incomplete or fax proposals will not be considered.

Diana Esher,
Acting Director, Chesapeake Bay Program Office.

[FR Doc. 02-1242 Filed 1-16-02; 8:45 am]

BILLING CODE 6560-50-M